ENVIRONMENTAL PROTECTION AGENCY

[FRL-8898-2]

Science Advisory Board Staff Office; Notification of a Public Teleconference of the Clean Air Scientific Advisory Committee (CASAC) Particulate Matter Review Panel; Correction

AGENCY: Environmental Protection Agency (EPA).

ACTION: Notice; correction.

SUMMARY: The EPA Science Advisory Board (SAB) Staff Office published a notice in the Federal Register of April 21, 2009 concerning a public teleconference of the Clean Air Scientific Advisory Committee (CASAC), Particulate Matter Review Panel. The notice contained an incorrect time of the teleconference.

FOR FURTHER INFORMATION CONTACT: Holly Stallworth, Designated Federal Officer, 202-343-9867.

Correction

In the Federal Register of April 21, 2009, in FR Doc. E9-9122, on page 18230, in the third column, correct the “Dates caption to read:

DATES: The public teleconference will be held on Thursday, May 7, 2009 from 11 a.m. to 2 p.m. (Eastern Time).

Dated: April 22, 2009.
Anthony F. Maciorowski,
Deputy Director, EPA Science Advisory Board Staff Office.

[FR Doc. E9-9651 Filed 4-27-09; 8:45 am]

BILLING CODE 6560-50-P